DEPARTMENT OF COMMERCE

International Trade Administration

Emory University, et al.; Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, DC.

Comments: None received. Decision: Approved. No instrument of equivalent scientific value to the foreign instruments described below, for such purposes as each is intended to be used, is being manufactured in the United States.

Docket Number: 00-027. Applicant: Emory University, Atlanta, GA 30322. Instrument: Slice Physiology Setup. Manufacturer: Luigs and Neumann, Germany. Intended Use: See notice at 65 FR 58046, September 27, 2000. Reasons: The foreign instrument provides superposition of recorded fluorescent images with positional information from a microscope for precise positioning of tissue structures in the field of interest in the microscope. Advice received from: National Institutes of Health, October 30, 2000.

Docket Number: 00-031. Applicant: University of Georgia, Athens, GA 30602. Instrument: (Two) Plant Growth Chambers, Model GC8-2H. Manufacturer: Enconair Ecological Chambers, Canada. Intended Use: See notice at 65 FR 59175, October 4, 2000. Reasons: The foreign instrument provides: (1) Capability to diagnose malfunction of chamber via telephone modem connection and (2) automatic notification of laboratory personnel of chamber malfunction by factor monitoring using synthesized voice messages. Advice received from: National Institutes of Health, October 30, 2000.

The National Institutes of Health advises in its memoranda that (1) the capabilities of each of the foreign instruments described above are pertinent to each applicant's intended purpose and (2) it knows of no domestic instrument or apparatus of equivalent scientific value for the intended use of each instrument. We know of no other instrument or apparatus being manufactured in the United States which is of equivalent scientific value to either of the foreign instruments.

Gerald A. Zerdy,
Program Manager, Statutory Import Programs Staff.

[FR Doc. 00-29632 Filed 11-17-00; 8:45 am]

BILLING CODE 3510-DS-M